CONSUMER PRODUCT SAFETY COMMISSION

Petition Requesting Ban of All-Terrain Vehicles Sold for Use by Children Under 16 Years Old; Extension of Comment Period

AGENCY: Consumer Product Safety Commission.

ACTION: Notice of extension of comment period.

SUMMARY: The Commission is extending its comment period to receive information concerning a petition asking the Commission to ban the sale of adult-size four wheel all-terrain vehicles (ATVs) sold for the use of children under 16 years of age. Seven manufacturers and distributors of ATVs requested a 60-day extension of the comment period. The Commission has decided to extend the comment period 90 days after the original comment period of December 17, 2002, in order to allow sufficient time for comments related to an ATV study that the Commission staff is currently preparing.

DATES: The Office of the Secretary should receive comments on the petition by March 16, 2003.

ADDRESSES: Comments, preferably in five copies, on the petition should be mailed to the Office of the Secretary, Consumer Product Safety Commission, Washington, DC 20207, telephone (301) 504-0800, or delivered to the Office of the Secretary, Room 502, 4330 East-West Highway, Bethesda, Maryland 20814. Comments may also be filed by telefacsimile to (301) 504-0127 or by e-mail to cpsc-os@cpsc.gov. Comments should be captioned “Petition CP 02-4/HP 02-1, Petition on ATVs.” A copy of the petition is available for inspection at the Commission's Public Reading Room, Room 419, 4330 East-West Highway, Bethesda, Maryland.

FOR FURTHER INFORMATION CONTACT: For information about submitting comments call or write to Rockelle Hammond, Office of the Secretary, Consumer Product Safety Commission, Washington, DC 20207; telephone (301) 504-0800, ext. 1232.

SUPPLEMENTARY INFORMATION: On October 18, 2002, the Commission published a notice announcing that it has docketed a petition asking that the Commission ban adult-size ATVs sold for the use of children under age 16 and requesting comments on the petition. 67 FR 64353. The petitioners assert that ATVs pose an unreasonable risk of injury and death to children, particularly to children under age 16 who ride adult-size ATVs. The October 18 Federal Register notice provided for a 60-day comment period to end December 17, 2002. The Commission has received requests to extend the comment period from American Honda Motor Co., Inc., Arctic Cat, Inc., Bombardier Motor Corporation of America, Kawasaki Motors Corp., U.S.A., Polaris Industries Inc., American Suzuki Motor Corporation, and Yamaha Motor Corporation, U.S.A. These companies, all manufacturers and distributors of ATVs, noted that the Commission staff is preparing a study of ATV-related injuries. The companies requested a 60-day extension of the comment period to allow comment on issues that the study may raise that are relevant to the petition. After considering these requests, the Commission has decided to extend the comment period 90 days after the original comment period of December 17, 2002 to March 16, 2003. Because the study has not yet been released, the Commission was concerned that a 60-day extension may not be adequate to allow interested members of the public sufficient time to review the study and comment on any issues related to the petition.

Dated: December 20, 2002.
Todd Stevenson,
Secretary.

[FR Doc. 02-32596 Filed 12-24-02; 8:45 am]

BILLING CODE 6355-01-P